DEPARTMENT OF ENERGY

Federal Energy Regulatory Commission

[Docket No. NP17-23-000]

North American Electric Reliability Corporation; Notice of Filing Taking Effect by Operation of Law

On May 31, 2017, pursuant to section 215 of the Federal Power Act (FPA),¹ the North American Electric Reliability Corporation (NERC) filed with the Commission, in Docket No. NP17-23-000, a Spreadsheet Notice of Penalty.

¹ 16 U.S.C. 824o (2012).

Pursuant to section 215 of the FPA, in the absence of Commission action on or before June 30, 2017 NERC's filing became effective on July 3, 2017 by operation of law.

Dated: July 5, 2017.
Kimberly D. Bose,
Secretary.

[FR Doc. 2017-14479 Filed 7-10-17; 8:45 am]

BILLING CODE 6717-01-P